DEPARTMENT OF ENERGY

Federal Energy Regulatory Commission

[Docket No. AD03-3-000]

Capital Availability for Energy Markets; Notice of Technical Conference

December 20, 2002.

The Federal Energy Regulatory Commission (FERC) is planning two technical conferences on capital finance and credit in energy markets. The first will be on capital availability for energy infrastructure. It is scheduled for Thursday, January 16, 2003 at FERC headquarters, 888 First Street, NE., Washington, DC, in the Commission Meeting Room (Room 2C). The second, scheduled for February 5, covering credit issues and potential solutions, is still in the formative stages.

The January 16 conference is for the purpose of evaluating the status of capital available to energy markets and infrastructure. Speakers will include representatives of investment banks, commercial banks, insurance companies, hedge funds, credit rating agencies and other similar institutions as well as market participants and end users. In addition to FERC, representatives of other relevant agencies will attend.

We look forward to an informative discussion of the issues to clarify the state of financial investment in energy. Contradictory anecdotal reports on availability and unavailability of financial backing needs to be cleared up to ensure that adequate, well-functioning energy markets and infrastructure is available to enable workable, competitive markets.

The one-day meeting will begin at 8:30 a.m. and conclude at 5 p.m. All interested parties are invited to attend. There is no registration fee.

The Capitol Connection offers coverage of all open and special Commission meetings held at the Commission's headquarters live over the Internet, as well as via telephone and satellite. For a fee, you can receive these meetings in your office, at home, or anywhere in the world. To find out more about Capitol Connection's live Internet, phone bridge, or satellite coverage, contact David Reininger or Julia Morelli at (703) 993-3100, or visit www.capitolconnection.gmu.org. Capitol Connection also offers FERC open meetings through its Washington, DC-area television service.

Additionally, live and archived audio of FERC public meetings are available for a fee via National Narrowcast Network's Hearings.com, and Hearing-On-The-Line services. Interested parties may listen to the conference live by phone or web. Hearings.com audio will be archived immediately for listening on demand after the event is completed. Call (202) 966-2211 for further details.

The Agenda is currently being firmed up. We will issue further details on the conference, including the Agenda and a list of participants, as plans evolve. For additional information, please contact Anita Herrera of the Office of Market Oversight & Investigations at 202-502-8150 or by e-mail, Anita.Herrera@ferc.gov.

Magalie R. Salas,
Secretary.

[FR Doc. 02-32675 Filed 12-26-02; 8:45 am]

BILLING CODE 6717-01-P